DEPARTMENT OF TRANSPORTATION

Federal Aviation Administration

14 CFR Part 39

[Docket No. FAA-2018-0513; Product Identifier 2018-CE-013-AD; Amendment 39-19471; AD 2018-21-13]

RIN 2120-AA64

Airworthiness Directives; Honda Aircraft Company LLC

AGENCY: Federal Aviation Administration (FAA), DOT.

ACTION: Final rule.

SUMMARY: We are superseding Airworthiness Directive (AD) 2018-11-05 for certain Honda Aircraft Company LLC (Honda) Model HA-420 airplanes. AD 2018-11-05 required incorporating a temporary revision into the airplane flight manual (AFM) and replacing the faulty power brake valve (PBV) upon condition. We issued AD 2018-11-05 as a short-term action to address the immediate need to detect and replace a faulty PBV. This AD retains the actions required in AD 2018-11-05 and requires replacing the faulty PBV with the improved part. We are issuing this AD to address the long-term corrective action and address the unsafe condition on these products.

DATES: This AD is effective November 27, 2018.

The Director of the Federal Register approved the incorporation by reference of a certain publication listed in this AD as of May 29, 2018 (83 FR 24016, May 24, 2018).

The Director of the Federal Register approved the incorporation by reference of certain other publications listed in this AD as of April 13, 2018 (83 FR 13401, March 29, 2018).

ADDRESSES: For service information identified in this final rule, contact Honda Aircraft Company LLC, 6430 Ballinger Road, Greensboro, North Carolina 27410; telephone (336) 662-0246; internet: http://www.hondajet.com. You may view this service information at the FAA, Policy and Innovation Division, 901 Locust, Kansas City, Missouri 64106. For information on the availability of this material at the FAA, call (816) 329-4148. It is also available on the internet at http://www.regulations.gov by searching for and locating Docket No. FAA-2018-0513.

Examining the AD Docket

You may examine the AD docket on the internet at http://www.regulations.gov by searching for and locating Docket No. FAA-2018-0513; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Samuel Kovitch, Aerospace Engineer, Atlanta ACO Branch, FAA, 1701 Columbia Avenue, College Park, Georgia 30337; phone: (404) 474-5570; fax: (404) 474-5605; email: samuel.kovitch@faa.gov.

SUPPLEMENTARY INFORMATION:

Discussion

We issued a notice of proposed rulemaking (NPRM) to amend 14 CFR part 39 to remove AD 2018-11-05, Amendment 39-19293 (83 FR 24016, May 24, 2018) (“AD 2018-11-05”), and add a new AD to correct an unsafe condition on certain Honda Model HA-420 airplanes. We issued AD 2018-11-05 as a short-term immediate action to detect a faulty PBV. AD 2018-11-05 required inserting a temporary revision into the AFM and replacing the installed PBV, part number (P/N) HJ1-13243-101-005 or P/N HJ1-13243-101-007, with an improved PBV, P/N HJ1-13243-101-009, if any of the procedures listed in the AFM temporary revision revealed a leaking PBV. In addition, AD 2018-11-05 allowed replacing the installed P/N HJ1-13243-101-005 or P/N HJ1-13243-101-007 with the improved P/N HJ1-13243-101-009 as an optional terminating action for the temporary revision procedures in the AFM. AD 2018-11-05 resulted from reports of unannunciated asymmetric braking during ground operations and landing deceleration.

The NPRM published in the Federal Register on June 7, 2018 (83 FR 26381). The NPRM was issued as follow-on rulemaking to propose the long-term actions necessary to address the faulty PBV. The NPRM proposed to retain the requirements of AD 2018-11-05 and require replacing the installed PBV, P/N HJ1-13243-101-005 or P/N HJ1-13243-101-007, with the improved PBV, P/N HJ1-13243-101-009, within 12 months. We are issuing this AD to address the long-term corrective action.

Comments

We gave the public the opportunity to participate in developing this AD. We received no comments on the NPRM or on the determination of the cost to the public.

Conclusion

We reviewed the relevant data and determined that air safety and the public interest require adopting this AD as proposed except for minor editorial changes. We also removed the optional terminating action provision, which allowed operators to replace the PBV at any time to terminate the pre-flight checks in the AFM, because that provision was unnecessary. The requirement to replace the PBV within 12 months of the effective date of this AD provides operators with that same option. We have determined that these minor changes:

• Are consistent with the intent that was proposed in the NPRM for addressing the unsafe condition; and

• Do not add any additional burden upon the public than was already proposed in the NPRM.

Related Service Information Under 1 CFR Part 51

We reviewed Honda AFM Temporary Revision TR 01.1, dated February 16, 2018 (temporary revision), Honda Service Bulletin SB-420-32-001, dated January 8, 2018 (SB-420-32-001), and Honda Service Bulletin SB-420-32-001, Revision B, dated April 16, 2018 (SB-420-32-001, Revision B). The temporary revision contains procedures for pilot checks of the braking system before every flight during ground operations and before every landing, procedures for landing with a leaking PBV, and procedures for rechecking the PBV for leaking after landing. The temporary revision also includes instructions for corrective actions if any indication of a leaking PBV is found after landing. SB-420-32-001 and SB-420-32-001, Revision B both contain procedures for replacing a faulty PBV with an improved PBV. This service information is reasonably available because the interested parties have access to it through their normal course of business or by the means identified in the ADDRESSES section.

Differences Between This Proposed AD and the Service Information

SB-420-32-001 and SB-420-32-001, Revision B specify submitting certain information to the manufacturer. This AD does not require that action.

Costs of Compliance

We estimate that this AD affects 72 airplanes of U.S. registry.

We estimate the following costs to comply with this AD:

Estimated Costs
Action | Labor cost | Parts cost | Cost per product | Cost on U.S. operators
Insert temporary revision into the AFM | 1 work-hour × $85 per hour = $85 | Not applicable | $85 | $6,120
Replace the power brake valve (PBV) | 20 work-hours × $85 per hour = $1,700 | $21,878 | 23,578 | 1,697,616

We provided the cost of replacing the PBV as an on-condition cost based on the procedures in the temporary revision and as an optional terminating action in AD 2018-11-05. We have no way of determining how many owner/operators of the affected airplanes may have already done this replacement. Therefore, we have included a total cost for all affected airplanes.

The difference in the Cost of Compliance between AD 2018-11-05 and this AD is the requirement to replace the power brake valve.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-11-05, Amendment 39-19293 (83 FR 24016, May 24, 2018), and adding the following new AD:

2018-21-13 Honda Aircraft Company LLC: Amendment 39-19471; Docket No. FAA-2018-0513; Product Identifier 2018-CE-013-AD.

(a) Effective Date

This AD is effective November 27, 2018.

(b) Affected ADs

This AD replaces AD 2018-11-05, Amendment 39-19293 (83 FR 24016, May 24, 2018) (“AD 2018-11-05”).

(c) Applicability

This AD applies to Honda Aircraft Company LLC (Honda) Model HA-420 airplanes, all serial numbers, that:

(1) Have power brake valve (PBV), part number (P/N) HJ1-13243-101-005 or HJ1-13243-101-007, installed; and

(2) are certificated in any category.

(d) Subject

Joint Aircraft System Component (JASC)/Air Transport Association (ATA) of America Code 32, Landing Gear.

(e) Unsafe Condition

This AD was prompted by reports of unannunciated asymmetric braking during ground operations and landing deceleration. We are issuing this AD to detect failure of the PBV. The unsafe condition, if not addressed, could result in degraded braking performance and reduced directional control during ground operations and landing deceleration.

(f) Compliance

Comply with this AD within the compliance times specified, unless already done.

(g) Insert Temporary Revision Into the Airplane Flight Manual (AFM)

Before further flight after May 29, 2018 (the effective date retained from AD 2018-11-05) insert Honda Temporary Revision TR 01.1, dated February 16, 2018 (temporary revision), into the Honda HA-420 Airplane Flight Manual (AFM). The procedures listed in the temporary revision are required while operating with PBV P/N HJ1-13243-101-005 or P/N HJ1-13243-101-007 installed. This insertion and the steps therein may be performed by the owner/operator (pilot) holding at least a private pilot certificate and must be entered into the airplane records showing compliance with this AD in accordance with 14 CFR 43.9 (a)(1) through (4) and 14 CFR 91.417(a)(2)(v). The record must be maintained as required by 14 CFR 91.417, 121.380, or 135.439.

(h) Replace the Power Brake Valve

As of and at any time after May 29, 2018 (the effective date retained from AD 2018-11-05), if any of the procedures listed in the temporary revision referenced in paragraph (g) of this AD reveal a leaking PBV, before further flight, replace the installed PBV, P/N HJ1-13243-101-005 or P/N HJ1-13243-101-007, with the improved PBV, P/N HJ1-13243-101-009. The replacement must be done using the Accomplishment Instructions in either Honda Service Bulletin SB-420-32-001, dated January 8, 2018 (SB-420-32-001), or Honda Service Bulletin SB-420-32-001, Revision B, dated April 16, 2018 (SB-420-32-001, Revision B). Before further flight after installing P/N HJ1-13243-101-009, remove the temporary revision from the Honda HA-420 AFM.

(i) No Reporting Requirement

Although SB-420-32-001 and SB-420-32-001, Revision B specify submitting certain information to the manufacturer, this AD does not require that action.

(j) Mandatory Replacement

Within the next 12 months after November 27, 2018 (the effective date of this AD), if not previously done as a result of paragraph (h) of this AD, replace the installed PBV, P/N HJ1-13243-101-005 or P/N HJ1-13243-101-007, with the improved PBV, P/N HJ1-13243-101-009. The replacement must be done using the Accomplishment Instructions in either SB-420-32-001 or SB-420-32-001, Revision B. Before further flight after installing P/N HJ1-13243-101-009, remove the temporary revision from the Honda HA-420 AFM.

(k) Special Flight Permit

Special flight permits for the AFM Limitations portion of this AD are prohibited. Special flight permits for the PBV replacement required in this AD are permitted with the following limitations: One ferry flight, including fuel stops, to a service center with the temporary revision incorporated into the Honda HA-420 AFM.

(l) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD.

(2) Before using any approved AMOC, notify your appropriate principal inspector, or lacking a principal inspector, the manager of the local flight standards district office/certificate holding district office.

(3) For service information that contains steps that are labeled as Required for Compliance (RC), the provisions of paragraphs (l)(3)(i) and (ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

For more information about this AD, contact Samuel Kovitch, Aerospace Engineer, Atlanta ACO Branch, FAA, 1701 Columbia Avenue, College Park, Georgia 30337; phone: (404) 474-5570; fax: (404) 474-5605; email: samuel.kovitch@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 13, 2018 (83 FR 13401, March 29, 2018).

(i) Honda Aircraft Company Temporary Revision TR 01.1, dated February 16, 2018.

(ii) Honda Aircraft Company Service Bulletin SB-420-32-001, dated January 8, 2018.

(4) The following service information was approved for IBR on May 29, 2018 (83 FR 24016, May 24, 2018).

(i) Honda Aircraft Company Service Bulletin SB-420-32-001, Revision B, dated April 16, 2018.

(ii) [Reserved]

(5) For Honda Aircraft Company LLC service information identified in this AD, contact Honda Aircraft Company LLC, 6430 Ballinger Road, Greensboro, North Carolina 27410; telephone (336) 662-0246; internet: http://www.hondajet.com.

(6) You may view this service information at FAA, Policy and Innovation Division, 901 Locust, Kansas City, Missouri 64106. For information on the availability of this material at the FAA, call 816-329-4148. In addition, you can access this service information on the internet at http://www.regulations.gov by searching for and locating Docket No. FAA-2018-0513.

(7) You may view this service information that is incorporated by reference at the National Archives and Records Administration (NARA). For information on the availability of this material at NARA, call 202-741-6030, or go to: http://www.archives.gov/federal-register/cfr/ibr-locations.html.

Issued in Kansas City, Missouri, on October 10, 2018.
Melvin J. Johnson,
Aircraft Certification Service, Deputy Director, Policy & Innovation Division.

[FR Doc. 2018-22750 Filed 10-22-18; 8:45 am]

BILLING CODE 4910-13-P